DEPARTMENT OF DEFENSE

Department of the Army; Corps of Engineers

Notice of Intent To Prepare a Draft Environmental Impact Statement in Cooperation With the North Carolina Department of Transportation for the Improvement of a 27.3 Mile Segment of US Highway 64 in Tyrrell and Dare Counties, NC

AGENCY: Department of the Army, U.S. Army Corps of Engineers, DoD.

ACTION: Notice of intent.

SUMMARY: The U.S. Army Corps of Engineers (COE), Wilmington District, Wilmington Regulatory Division is issuing this notice to advise the public that a State of North Carolina funded Draft Environmental Impact Statement (DEIS) will be prepared for the improvement of US 64 to a multilane facility, and replacement of the Lindsey C. Warren bridge in Tyrrell and Dare Counties, North Carolina (TIP Projects R-2544 and R-2545).

FOR FURTHER INFORMATION CONTACT: Questions about the proposed action and DEIS can be directed to Mr. Bill Biddlecome, Regulatory Project Manager, Washington Regulatory Field Office, Post Office Box 1000, Washington, NC 27889-1000; telephone: (252) 975-1616, extension 26 or Mr. Ted Devens, PE, Project Engineer, North Carolina Department of Transportation, 1548 Mail Service Center, Raleigh, NC 27699-1548, telephone: (919) 733-7844, ext. 360.

SUPPLEMENTARY INFORMATION: The COE in cooperation with the North Carolina Department of Transportation will prepare an Environmental Impact Statement (EIS) on a proposal to improve a 27.3 mile segment of existing US 64 in Tyrrell (TIP No. R-2545) and Dare (TIP No. R-2544) Counties, North Carolina, from a two-lane to a multiple-lane roadway and replace the Lindsey C. Warren Bridge over the Alligator River.

The proposed project is considered necessary to insure consistency with North Carolina's Strategic Highway Corridor Plan (which seeks long-term interconnectivity of consistent transportation corridors in North Carolina) and the Intrastate Highway System, to reduce US 64 hurricane evacuation time to better meet state clearance goals in the project study area, and for maintaining/improving a bridge across the Alligator River that meets the needs of highway users.

In 1989, US 64 was designated as part of the State's Intrastate System under Chapter 136 of the North Carolina General Statutes. In January 1999, NCDOT initiated a study to improve US 64 to a multi-lane facility from Columbia in Tyrrell County east to US 64/US 264 in Dare County. A series of meetings were held with local officials and residents of East Lake and Manns Harbor. There was general support for the project from local officials and residents.

In 2002 the project was presented to Federal and State Resource and Regulatory Agencies to gain concurrence on the purpose and need for the project. Following the meeting, it was agreed that further work on the US 64 project would be postponed pending completion of a revised Hurricane Evacuation study. The hurricane model revisions were completed in 2005. Model development was accomplished in conjunction with an Oversight Committee consisting of representatives from NCDOT, FHWA, numerous state and federal environmental resource and regulatory agencies, and Emergency Management officials from North Carolina's coastal counties. It was agreed that an 18-hour standard for clearance times would be applied to a Category 3 storm with 75 percent tourist occupancy. The 18-hour goal was adopted by the North Carolina Legislature in 2005. Following the completion of the new Hurricane Evacuation Study, the project was reinitiated as a State funded Environmental Impact Statement.

A scoping meeting was conducted on February 6, 2007 followed by a Public Officials Meeting and Citizens Informational Workshop on March 14, 2007. Public officials from Tyrrell and Dare Counties and the Towns of Columbia and Manteo attended the public officials meeting. There was unanimous support for the project from all local officials. A NEPA/404 Merger 01 Purpose and Need meeting was conducted on June 14, 2007. The Merger Team, which was comprised of Federal and State Resource and Regulatory Agencies, agreed that a suitable Purpose and Need exists for the project.

The US 64 corridor in eastern North Carolina has been improved from two to four lanes west and east of the project corridor. This proposed action would complete intrastate improvements to US 64 between Raleigh and the Outer Banks. The current 2007-2013 North Carolina Transportation Improvement Program (TIP) lists R-2544 and R-2545 for Right-of-Way acquisition in Fiscal Year (FY) 2012. The Lindsey C. Warren Bridge R-2545B is scheduled to be let for construction in FY 2012. Construction for other sections is post year.

Environmental consequences: CEQ regulations (40 CFR 1502.16) state the EIS will include the environmental impacts of the alternatives including the proposed action, any adverse environmental effects which cannot be avoided should the proposal be implemented, the relationship between short-term uses of man's environment and the maintenance and enhancement of long-term productivity, and any irreversible or irretrievable commitments of resources which would be involved in the proposal should it be implemented. The EIS will assess a reasonable number of alternatives and identify and disclose the direct impacts of the proposed project on the following: Topography, geology, soils, climate, biotic communities, wetlands, fish and wildlife resources, endangered and threatened species, hydrology, water resources and water quality, floodplains, hazardous materials, air quality, noise, aesthetics, recreational resources, historical and cultural resources, socioeconomics, land use, public health and safety, energy requirements and conservation, natural or non-renewable resources, drinking waters, and environmental justice.

Secondary and cumulative environmental impacts: Cumulative impacts result from the incremental impact of the proposed action when added to past, present, and reasonably foreseeable future actions, regardless of what agency or person undertakes the action. Geographic Information System (GIS) data and mapping will be used to evaluate and quantify secondary and cumulative impacts of the proposed project with particular emphasis given to wetlands and surface/groundwater resources.

Mitigation: CEQ regulations (40 CFR 1502.14, 1502.16, and 1508.20) require the EIS to include appropriate mitigation measures. The USACE has adopted, through the CEQ, a mitigation policy which embraces the concepts of “no net loss of wetlands” and project sequencing. The purpose of this policy is to restore and maintain the chemical, biological, and physical integrity of “Waters of the United States,” specifically wetlands. Mitigation of wetland impacts has been defined by the CEQ to include: avoidance of impacts (to wetlands), minimizing impacts, rectifying impacts, reducing impacts over time, and compensating for impacts (40 CFR 1508.20). Each of these aspects (avoidance, minimization, and compensatory mitigation) must be considered in sequential order. As part of the EIS, the applicant will develop a compensatory mitigation plan detailing the methodology and approach to compensate for unavoidable impacts to waters of the U.S. including streams and wetlands.

NEPA/SEPA Preparation and Permitting: Because the proposed project requires approvals from federal and state agencies under both the National Environmental Policy Act (NEPA) and the State Environmental Policy Act (SEPA), a joint Federal and State Environmental Impact Statement (EIS) will be prepared. The U.S. Army Corps of Engineers will serve as the lead agency for the process. The EIS will serve as the NEPA document for the Corps of Engineers (404 permit) and as the SEPA document for the State of North Carolina (401 permit).

Based on the size, complexity, and potential impacts of the proposed project, the Applicant has been advised by the U.S. Army Corps of Engineers to identify and disclose the environmental impacts of the proposed project in an Environmental Impact Statement (EIS). Within the EIS, the Applicant will conduct a thorough environmental review, including an evaluation of a reasonable number of alternatives. After distribution and review of the Draft EIS and Final EIS, the Applicant understands that the U.S. Army Corps of Engineers in coordination with the North Carolina Department of Transportation will issue a Record of Decision (ROD) for the project. The ROD will document the completion of the EIS process and will serve as a basis for permitting decisions by federal and state agencies.

To ensure that the full range of issues related to this proposed action are addressed and all significant issues identified, comments and suggestions are invited from all interested parties. Comments or questions concerning this proposed action and the EIS should be directed to the U.S. Army Corps of Engineers at the address provided (see FOR FURTHER INFORMATION CONTACT). The Wilmington District will periodically issue Public Notices soliciting public and agency comment on the proposed action and alternatives to the proposed action as they are developed.

Jefferson M. Ryscavage,
Colonel, U.S. Army, District Commander.

[FR Doc. E9-2807 Filed 2-9-09; 8:45 am]

BILLING CODE 3720-58-P